DEPARTMENT OF HEALTH AND HUMAN SERVICES

[Document Identifier OS-0955-New]

Agency Information Collection Request; 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before May 20, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Sherrette Funn, Sherrette.Funn@hhs.gov or (202) 795-7714. When submitting comments or requesting information, please include the document identifier 0990-New-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: United States Core Data for Interoperability New Data Element Submission Form.

Type of Collection: New.

OMB No. 0955-NEW—Office of the National Coordinator for Health IT—OTECH.

Abstract: The Office of the National Coordinator for Health Information Technology is seeking the approval for a new information collection request item the “United States Core Data for Interoperability (USCDI) New Data Element Submission Form.” The USCDI is a standardized set of health data classes and constituent data elements used to support nationwide, interoperable health information exchange. When published, the USCDI will become the required standard data elements set to which all health IT developers must conform to obtain ONC certification. This certification is required for participation in some federal healthcare payment plans. In order to insure the USCDI remains current and reflects the needs of the health IT community, ONC has established a predictable, transparent, and collaborative process to solicit broad stakeholder input to expand the USCDI. Anyone, including ONC staff, staff from other federal agencies, and other stakeholders may submit proposals for new data elements and classes. ONC will evaluate each submission and provide feedback to the submitter. ONC will draft a new version of the USCDI based on these submissions and this draft will undergo review by ONC's federal advisory committee, the Health Information Technology Advisory Committee (HITAC), as well as by the general public. Upon approval by the National Coordinator for Health Information Technology, new data classes and data elements from these submissions will be added to the newest version of the USCDI standard for integration into health information technology products such as electronic health records. ONC is seeking approval to collect this information throughout each year from health IT stakeholders.

The information collected from this submission system is needed as it will comprise the sum total of the items ONC will evaluate for addition to the next version of the USCDI. The requested data will provide supporting documentation to justify addition of the data elements to the USCDI, and, if the documentation does justify addition to the USCDI, to one of several levels of candidate data elements for future development and consideration. The requested data and ONC's evaluation of the data will be publically available for review at any time to provide transparency and predictability in the USCDI expansion process. It will contain information about the submitter to allow ONC to provide direct feedback to submitters on ONC's evaluation of such submission.

Likely respondents to this new submission system will be various health IT stakeholders including health care providers, standards development organizations, health IT developers and vendors as well as members of the HITAC. Respondents have an unlimited amount of submissions as this is a rolling submission.

Estimated Annualized Burden Table
Type of respondent | Number of respondents | Number responses per respondent | Average burden per response (in hours) | Total burden hours
Health IT Stakeholders | 100 | 1 | 20/60 | 33
Total | 100 | 1 | 20/60 | 33

Sherrettte A. Funn,
Office of the Secretary, Paperwork Reduction Act Reports Clearance Officer.

[FR Doc. 2020-08244 Filed 4-17-20; 8:45 am]

BILLING CODE 4150-45-P